DEPARTMENT OF ENERGY

Federal Energy Regulatory Commission

[Project No. 9985-039]

Rivers Electric, LLC; Notice of Application Tendered for Filing with the Commission and Soliciting Additional Study Requests and Establishing Procedural Schedule for Relicensing and a Deadline for Submission of Final Amendments

Take notice that the following hydroelectric application has been filed with the Commission and is available for public inspection.

a. Type of Application: Subsequent Minor License

b. Project No.: 9985-039

c. Date filed: March 31, 2025

d. Applicant: Rivers Electric, LLC (Rivers Electric)

e. Name of Project: Mill Pond Hydroelectric Project (Mill Pond Project or project)

f. Location: On Catskill Creek in Greene County, New York

g. Filed Pursuant to: Federal Power Act 16 U.S.C. 791(a)-825(r)

h. Applicant Contact: Tony Zarrella, Chief Operating Officer, Relevate Power, 230 Park Ave, Suite 447, New York, NY 10017, Phone: (315) 247-0253.

i. FERC Contact: Martha Becton at (202) 502-8335, or martha.becton@ferc.gov.

j. Cooperating agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: May 30, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Mill Pond Hydroelectric Project (P-9985-039).

m. The application is not ready for environmental analysis at this time.

n. The Mill Pond Project consists of the following existing facilities: (1) a concrete gravity dam approximately 3 to 5 feet high and 130 feet long with a crest elevation of 105 feet mean sea level (msl) topped by 3-foot-high pneumatic flashboards for a spillway crest of 108 feet msl; (2) a 20-foot natural ledge rock fall; (3) a 7.28-acre reservoir with a gross storage capacity of 82 acre-feet at normal water surface elevation of 108 feet msl; (4) an intake structure that includes a trash rack with 1.75-inch clear bar spacing; (5) a 36-inch-diameter concrete trough and conveyance chute adjacent to the intake that passes minimum flows, fish, ice, and debris downstream; (6) an approximately 10-foot-diameter, 147-foot-long steel penstock that bifurcates into two separate, equivalent diameter sections; (7) a powerhouse 30 feet wide and 32 feet long containing two generating units rated at 500 kilowatts (kW) each for a total installed capacity of 1,000 kW; (8) 2.4-kilovolt (kV) generator leads connecting the generating units to a 13.2-kV-ampere step-up transformer located in a small switchyard; (9) a 200-foot-long (mostly underground) transmission line from the step-up transformer to the point of interconnection with the distribution system; and (10) appurtenant facilities.

Rivers Electric proposes to continue operating the project in a run-of-river mode such that outflow from the project approximates inflow to the project reservoir and to release, through the conveyance chute, a minimum flow of 20 cubic feet per second, or inflow, whichever is less, on a year-round basis as required by Article 402 of the current license.

o. A copy of the application can be viewed on the Commission's website at http://www.ferc.gov, using the “eLibrary” link. Enter the docket number, excluding the last three digits in the docket number field, to access the document (P-9985). For assistance, contact FERC at FERCOnlineSupport@ferc.gov, or call toll-free, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Milestone | Target date
Issue Deficiency Letter (if necessary) | May 2025.
Request Additional Information | May 2025.
Issue Acceptance Letter | September 2025.
Issue Scoping Document 1 for comments | October 2025.
Issue Scoping Document 2 (if necessary) | December 2025.
Issue Notice of Ready for Environmental Analysis | December 2025.

Final amendments to the application must be filed with the Commission no later than 30 days from the issuance date of the notice of ready for environmental analysis.

Dated: April 11, 2025.
Debbie-Anne A. Reese,
Secretary.

[FR Doc. 2025-06612 Filed 4-16-25; 8:45 am]

BILLING CODE 6717-01-P